INTERNATIONAL TRADE COMMISSION

19 CFR Part 210

[MISC-022]

Adjudication and Enforcement

AGENCY: U.S. International Trade Commission.

ACTION: Notice of proposed rulemaking.

SUMMARY: The Commission proposes to amend some of its rules for investigations and related proceedings under section 337 of the Tariff Act of 1930 (19 U.S.C. 1337) to do the following: (1) Provide for service of certain Commission documents by overnight delivery; and (2) provide one additional day to respond to Commission documents served by overnight delivery. The current manner of service of Commission documents is not effective according to recent agency studies. These rules will ensure effective service of Commission documents on private parties in section 337 investigations and related proceedings.

DATES: Submit comments on or before February 6, 2007.

ADDRESSES: You may submit comments, identified by docket number MISC-022 by any of the following methods:

• Federal eRulemaking Portal: http://www.regulations.gov. Follow the instructions for submitting comments.

• Agency Web Site: http://www.usitc.gov. Follow the instructions for submitting comments. See http://www.usitc.gov/secretary/edis.htm.

• Mail: For paper submission. U.S. International Trade Commission, 500 E Street, SW., Room 112, Washington, DC 20436.

• Hand Delivery/Courier: U.S. International Trade Commission, 500 E Street, SW., Room 112, Washington, DC 20436. From the hours of 8:45 a.m. to 5:15 p.m.

For detailed instructions on submitting comments, see the “Public Participation” heading of the SUPPLEMENTARY INFORMATION section of this document.

FOR FURTHER INFORMATION CONTACT: Clint A. Gerdine, Esq., telephone 202-708-2310, Office of the General Counsel, U.S. International Trade Commission, 500 E Street, SW., Washington, DC 20436. General information concerning the Commission may also be obtained by accessing its Internet server (http://www.usitc.gov). Hearing-impaired persons are advised that information on the proposed rulemaking can be obtained by contacting the Commission's TDD terminal on 202-205-1810.

SUPPLEMENTARY INFORMATION:

Public Participation

Instructions: All submissions received must include the agency name and docket number (MISC-022) or Regulatory Information Number (RIN) for this rulemaking. All comments received will be posted without change to http://www.usitc.gov, including any personal information provided. For paper copies, a signed original and 14 copies of each set of comments, along with a cover letter stating the nature of the commenter's interest in the proposed rulemaking, should be submitted to Marilyn R. Abbott, Secretary, U.S. International Trade Commission, 500 E Street, SW., Room 112, Washington, DC 20436. Comments, along with a cover letter, may be submitted electronically to the extent provided by section 201.8 of the Commission's rules. This rule may refer commenters to the Handbook for Electronic Filing Procedures (see http://www.usitc.gov/secretary/edis.htm). For those submitting comments by mail, it is advisable to mail in comments in advance of the due date since Commission mail will be delayed due to necessary security screening.

Docket: For access to the docket to read comments received, go to http://www.usitc.gov or U.S. International Trade Commission, 500 E Street, SW., Room 112, Washington, DC 20436.

The preamble below is designed to assist readers in understanding these proposed amendments to the Commission's rules. The preamble includes a discussion of the background leading up to these proposed amendments, a regulatory analysis addressing government-wide statutes and issuances on rulemaking, and a description of the proposed amendments to the rules. The Commission encourages members of the public to comment—in addition to any other comments they wish to make on the proposed amendments—on whether the proposed language is sufficiently clear for users of the rules to understand.

If the Commission decides to proceed with this rulemaking after reviewing the comments filed in response to this notice, the proposed rule revisions will be promulgated in accordance with the Administrative Procedure Act (5 U.S.C. 553), and will be codified in 19 CFR part 210.

Background

Currently, service of Commission documents in investigations and related proceedings under section 337 of the Tariff Act is effected under section 210.7 of the Commission's rules in part 210 (19 CFR 210.7) which refers back to the general service provisions of § 201.16 of the Commission's rules in part 201 (19 CFR 201.16). Also, the computation of time to respond to Commission documents in section 337 investigations and related proceedings is governed by § 210.6 of the Commission's rules in part 210 (19 CFR 210.6) which refers back to the general computation of time presented in § 201.16(d) of the Commission's rules in part 201 (19 CFR 201.16(d)). Currently, the Commission rules governing service of Commission documents in section 337 investigations and related proceedings allow for service by mail or hand delivery.

The Commission is considering changing the manner in which it serves certain documents in section 337 investigations and related proceedings to: (1) Eliminate gamesmanship between parties served by different manners of service in responding to Commission documents; and (2) streamline service of Commission documents. The Commission proposes that certain Commission documents, which are identified below, be served by overnight delivery on private parties. For these documents hand pickup will not be permitted. Parties served by overnight delivery will be given one additional day to respond. The Commission is considering providing the Commission Investigative Attorney (“IA”) with sufficient time to allow filing contemporaneously with the private parties.

Regulatory Analysis of Proposed Amendments to 19 CFR Part 210

The Commission has determined that the proposed rules do not meet the criteria described in Section 3(f) of Executive Order 12866 (58 FR 51735, Oct. 4, 1993) and thus do not constitute a significant regulatory action for purposes of the Executive Order.

The Regulatory Flexibility Act (5 U.S.C. 601 et seq.) is inapplicable to this rulemaking because it is not one for which a notice of proposed rulemaking is required under 5 U.S.C. 553(b) or any other statute. Although the Commission has chosen to publish a notice of proposed rulemaking, these proposed regulations are “agency rules of procedure and practice,” and thus are exempt from the notice requirement imposed by 5 U.S.C. 553(b).

These proposed rules do not contain federalism implications warranting the preparation of a federalism summary impact statement pursuant to Executive Order 13132 (64 FR 43255, Aug. 4, 1999).

No actions are necessary under the Unfunded Mandates Reform Act of 1995 (2 U.S.C. 1501 et seq.) because the proposed rules will not result in the expenditure by State, local, and tribal governments, in the aggregate, or by the private sector, of $100,000,000 or more in any one year, and will not significantly or uniquely affect small governments.

The proposed rules are not major rules as defined by section 804 of the Small Business Regulatory Enforcement Fairness Act of 1996 (5 U.S.C. 801 et seq.). Moreover, they are exempt from the reporting requirements of the Contract With America Advancement Act of 1996 (Pub. L. 104-121) because they concern rules of agency organization, procedure, or practice that do not substantially affect the rights or obligations of non-agency parties.

The amendments are not subject to section 3504(h) of the Paperwork Reduction Act (44 U.S.C. 3501 et seq.), since they do not contain any new information collection requirements.

Explanation of the Proposed Amendments to 19 CFR Part 210

The Commission proposes to amend part 210 in the manner described below.

Section 210.6

Section 210.6 governs the computation of response time when a party is served with a document that requires a response. The Commission proposes to amend that rule by adding provisions concerning when to respond to Commission documents that are served by overnight delivery.

The Commission proposes to revise the text of § 210.6 by dividing the current text and designating the portions as paragraphs (a) and (b) of the amended rule. Also, the Commission proposes to add a new paragraph (c) which provides that a party shall be given one additional day to respond to a Commission document when served by overnight delivery, and add another new paragraph (d) which defines “overnight delivery”.

Section 210.7

Paragraph (a) of § 210.7 governs the service of process of Commission documents. The Commission proposes to amend that rule by adding provisions concerning service of certain documents by overnight delivery on private parties (for these documents hand pickup will not be permitted).

The Commission proposes to revise and redesignate current paragraph (a) as paragraph (a)(1), and then add new paragraph (a)(2) which provides that certain Commission documents shall be served by overnight delivery.

List of Subjects in 19 CFR Part 210

Administration practice and procedure, Business and industry, Customs duties and inspection, Imports, Investigations.

For the reasons discussed in the preamble, the United States International Trade Commission proposes to amend 19 CFR part 210 as follows:

PART 210—ADJUDICATION AND ENFORCEMENT

1. The authority citation for part 210 will continue to read as follows:

Authority: 19 U.S.C. 1333, 1335, and 1337.

2. Revise § 210.6 to read as follows:

§ 210.6 Computation of time, additional hearings, postponements, continuances, and extensions of time.

(a) Unless the Commission, the administrative law judge, or this or another section of this part specifically provides otherwise, the computation of time and the granting of additional hearings, postponements, continuances, and extensions of time shall be in accordance with §§ 201.14 and 201.16(d) of this chapter.

(b) Whenever a party has the right or is required to perform some act or to take some action within a prescribed period after service of a document upon it, and the document was served by mail, the deadline shall be computed by adding to the end of the prescribed period the additional time allotted under § 201.16(d), unless the Commission, the administrative law judge, or another section of this part specifically provides otherwise.

(c) Whenever a party has the right or is required to perform some act or to take some action within a prescribed period after service of a Commission document upon it, and the document was served by overnight delivery, the deadline shall be computed by adding one day to the end of the prescribed period, unless the Commission, the administrative law judge, or another section of this part specifically provides otherwise.

(d) “Overnight delivery” is defined as delivery by the next business day.

3. Amend § 210.7 by revising paragraph (a) to read as follows:

§ 210.7 Service of process and other documents; publication of notices.

(a) Manner of service. (1) The service of process and all documents issued by or on behalf of the Commission or the administrative law judge—and the service of all documents issued by parties under §§ 210.27 through 210.34 of this part—shall be in accordance with § 201.16 of this chapter, unless the Commission, the administrative law judge, or this or another section of this part specifically provides otherwise.

(2) The service of all initial determinations as defined in § 210.42 and all documents containing confidential business information—issued by or on behalf of the Commission or the administrative law judge—on a private party shall be effected by serving a copy of the document by overnight delivery—as defined in § 210.6(d)—on the person to be served, on a member of the partnership to be served, on the president, secretary, other executive officer, or member of the board of directors of the corporation, association, or other organization to be served, or, if an attorney represents any of the above before the Commission, by serving a copy by overnight delivery on such attorney.

* * * * *

Issued: December 4, 2006.
By Order of the Commission.
Marilyn R. Abbott,
Secretary to the Commission.

[FR Doc. E6-20766 Filed 12-7-06; 8:45 am]

BILLING CODE 7020-02-P